DEPARTMENT OF COMMERCE

National Oceanic and Atmospheric Administration

[I.D. 011400A]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Red Drum Stock Assessment Panel (RDSAP).

DATES: This meeting will begin at 9:00 a.m. on Monday, February 7, 2000 and will conclude by 3:00 p.m. on Wednesday, February 9, 2000.

ADDRESSES: The meeting will be held at NMFS Southeast Fisheries Science Center, 75 Virginia Beach Drive, Miami, FL.

FOR FURTHER INFORMATION CONTACT: Peter Hood, Fishery Biologist, Gulf of Mexico Fishery Management Council, 3018 U.S. Highway 301 North, Suite 1000, Tampa, FL 33619; telephone: 813-228-2815.

SUPPLEMENTARY INFORMATION: The RDSAP will convene to re-evaluate a stock assessment on the status of the red drum stocks in the Gulf of Mexico prepared by NMFS. The RDSAP will consider available information, including but not limited to, commercial and recreational catches, natural and fishing mortality estimates, recruitment, fishery-dependent and fishery-independent data, and data needs. These analyses will be used to determine the condition of the stocks and the levels of acceptable biological catch (ABC). If time allows for the assessment to be run, the RDSAP may also review estimates of stock size (biomass at maximum sustainable yield (Bmsy)) and minimum stock size thresholds (MSST). Otherwise estimates of stock size and minimum stock size thresholds will be discussed at a later meeting. Currently it is illegal to harvest or possess red drum in Federal waters.

Although other non-emergency issues not on the agendas may come before the RDSAP for discussion, in accordance with the Magnuson-Stevens Fishery Conservation and Management Act, those issues may not be the subject of formal action during these meetings. Actions of the RDSAP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the above address by January 31, 2000.

Dated: January 14, 2000.
Richard W. Surdi,
Acting Director, Office of Sustainable Fisheries, National Marine Fisheries Service.

[FR Doc. 00-1349 Filed 1-19-00; 8:45 am]

BILLING CODE 3510-22-F